DEPARTMENT OF TRANSPORTATION

Federal Aviation Administration

14 CFR Part 97

[Docket No.: FAA-2015-0783; Notice No. 15-02]

RIN 2120-AA65

Standard Instrument Approach Procedures, and Takeoff Minimums and Obstacle Departure Procedures; Miscellaneous Amendments

AGENCY: Federal Aviation Administration (FAA), DOT.

ACTION: Notice of proposed rulemaking.

SUMMARY: This action proposes to remove certain redundant or underutilized ground-based non-directional beacon and very high frequency, omnidirectional radio range Standard Instrument Approach Procedures based on the criteria established by the FAA's Policy for Discontinuance of Certain Instrument Approach Procedures.

DATES: Send comments on or before May 28, 2015.

ADDRESSES: Send comments identified by docket number FAA-2015-0783 using any of the following methods:

• Federal eRulemaking Portal: Go to http://www.regulations.gov and follow the online instructions for sending your comments electronically.

• Mail: Send comments to Docket Operations, M-30; U.S. Department of Transportation (DOT), 1200 New Jersey Avenue SE., Room W12-140, West Building Ground Floor, Washington, DC 20590-0001.

• Hand Delivery or Courier: Take comments to Docket Operations in Room W12-140 of the West Building Ground Floor at 1200 New Jersey Avenue SE., Washington, DC, between 9 a.m. and 5 p.m., Monday through Friday, except Federal holidays.

• Fax: Fax comments to Docket Operations at 202-493-2251.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Docket: Background documents or comments received may be read at http://www.regulations.gov at any time. Follow the online instructions for accessing the docket or go to the Docket Operations in Room W12-140 of the West Building Ground Floor at 1200 New Jersey Avenue SE., Washington, DC, between 9 a.m. and 5 p.m., Monday through Friday, except Federal holidays.

FOR FURTHER INFORMATION CONTACT: For technical questions concerning this action, contact Wayne Eckenrode, Aeronautical Information Services, AJV-5, Federal Aviation Administration, Air Traffic Organization, 4500 Mercantile Plaza Drive, Fort Worth, TX 76137; telephone (202) 494-8898; email AMC-ATO-IFP-Cancellations@faa.gov.

SUPPLEMENTARY INFORMATION:

Authority for This Rulemaking

The FAA's authority to issue rules on aviation safety is found in Title 49 of the United States Code. Subtitle I, Section 106 describes the authority of the FAA Administrator. Subtitle VII, Aviation Programs, describes in more detail the scope of the agency's authority.

This rulemaking is promulgated under the authority described in Subtitle VII, Part A, Subpart i, Section 40103, sovereignty and use of airspace, and Subpart iii, Section 44701, general requirements. Under these sections, the FAA is charged with prescribing regulations to regulate the safe and efficient use of the navigable airspace; to govern the flight, navigation, protection, and identification of aircraft for the protection of persons and property on the ground, and for the efficient use of the navigable airspace (49 U.S.C. 40103(b)), and to promote safe flight of civil aircraft in air commerce by prescribing regulations and minimum standards for other practices, methods, and procedures necessary for safety in air commerce and national security (49 U.S.C. 44701(a)(5)). This action is within the scope of that authority.

Standard Instrument Approach Procedures (SIAPs) are routinely incorporated by reference pursuant to 5 U.S.C. 552(a) and 1 CFR part 51 into Title 14 of the Code of Federal Regulations; Part 97 (14 CFR part 97), Subpart C—TERPS Procedures, and are promulgated by rulemaking procedures. The FAA will consider all public comments before issuing a final rule removing selected SIAPs.

Background

On June 27, 2014, the FAA published a policy establishing criteria for cancelling instrument approach procedures (79 FR 36576). Cancelling certain ground-based non-directional beacon (NDB), and very high frequency (VHF), omnidirectional radio range (VOR) SIAPs is one integral part of right-sizing the quantity and type of procedures in the National Airspace System (NAS). As new technology facilitates the introduction of area navigation (RNAV) instrument approach procedures, the number of procedures available in the National Airspace System has nearly doubled over the past decade. The complexity and cost to the FAA of maintaining the existing ground based navigational infrastructure while expanding the new RNAV capability is not sustainable. Therefore, the FAA is proposing the following list of SIAPs for cancellation based on the criteria established in the Policy.

The Proposed List for Cancellation

SIAPs and associated supporting data adopted or cancelled by the FAA are documented on FAA Forms 8260-3, 8260-4, and 8260-5. These forms are incorporated by reference via Transmittal Letter.

Based on the final policy criteria, 736 procedures have been identified for cancellation at this time. The procedures considered for cancellation are listed in this section. Additionally, the list can be viewed on the AeroNav Products IFP Announcements and Reports Web page at the following link, https://www.faa.gov/air_traffic/flight_info/aeronav/procedures/reports/.

State | Airport name | ID | Approach procedure
AK | ATQASUK EDWARD BURNELL SR MEMORIAL | ATK | NDB RWY 24.
AK | BETHEL | BET | VOR/DME RWY 19R.
AK | BETTLES | BTT | VOR/DME RWY 01.
AK | COLD BAY | CDB | VOR/DME OR TACAN-A.
AK | DILLINGHAM | DLG | VOR/DME RWY 19.
AK | KENAI MUNI | ENA | VOR RWY 19R.
AK | EMMONAK | ENM | VOR RWY 34.
AK | FORT YUKON | FYU | VOR/DME OR TACAN-A.
AK | EDWARD G. PITKA SR | GAL | VOR/DME RWY 25.
AK | GULKANA | GKN | VOR/DME RWY 33.
AK | KOYUK ALFRED ADAMS | KKA | NDB/DME RWY 1.
AK | MC GRATH | MCG | VOR/DME OR TACAN RWY 16.
AK | MC GRATH | MCG | VOR-A.
AK | MIDDLETON ISLAND | MDO | VOR/DME RWY 20.
AK | RALPH WIEN MEMORIAL | OTZ | VOR RWY 27.
AK | RALPH WIEN MEMORIAL | OTZ | VOR RWY 09.
AK | RALPH WIEN MEMORIAL | OTZ | VOR/DME Y RWY 27.
AK | DEADHORSE | SCC | VOR RWY 05.
AK | DEADHORSE | SCC | VOR/DME RWY 23.
AK | DEADHORSE | SCC | VOR/DME RWY 05.
AK | SAND POINT | SDP | NDB/DME RWY 13.
AK | SHISHMAREF | SHH | NDB RWY 23.
AK | SITKA ROCKY GUTIERREZ | SIT | VOR/DME-A.
AK | SOLDOTNA | SXQ | NDB RWY 25.
AK | SOLDOTNA | SXQ | VOR/DME-A.
AK | TALKEETNA | TKA | VOR-A.
AK | UNALAKLEET | UNK | VOR/DME-D.
AK | YAKUTAT | YAK | VOR/DME RWY 11.
AL | ANNISTON RGNL | ANB | NDB RWY 5.
AL | TALLADEGA MUNI | ASN | VOR/DME RWY 04.
AL | AUBURN UNIVERSITY RGNL | AUO | VOR RWY 29.
AL | PRYOR FIELD RGNL | DCU | VOR RWY 18.
AL | BESSEMER | EKY | VOR RWY 05.
AL | WALKER COUNTY-BEVILL FIELD | JFX | VOR/DME-A.
AL | NORTHWEST ALABAMA RGNL | MSL | VOR RWY 29.
AL | CRAIG FIELD | SEM | NDB RWY 33.
AR | WALNUT RIDGE RGNL | ARG | VOR-A.
AR | SPRINGDALE MUNI | ASG | VOR RWY 18.
AR | WEST MEMPHIS MUNI | AWM | VOR/DME-A.
AR | BAXTER COUNTY | BPK | VOR-A.
AR | SOUTH ARKANSAS RGNL AT GOODWIN FIELD | ELD | VOR RWY 22.
AR | DRAKE FIELD | FYV | VOR-A.
AR | THOMPSON-ROBBINS | HEE | VOR RWY 17.
AR | MEMORIAL FIELD | HOT | VOR Y RWY 05.
AR | MEMORIAL FIELD | HOT | VOR Z RWY 05.
AR | BOONE COUNTY | HRO | VOR-A.
AR | JONESBORO MUNI | JBR | VOR RWY 23.
AR | LAKE VILLAGE MUNI | M32 | VOR/DME-B.
AR | MENA INTERMOUNTAIN MUNI | MEZ | NDB RWY 27.
AR | MENA INTERMOUNTAIN MUNI | MEZ | VOR/DME-A.
AR | NORTH LITTLE ROCK MUNI | ORK | VOR RWY 35.
AR | GRIDERFIELD | PBF | VOR RWY 18.
AR | ROGERS MUNI-CARTER FIELD | ROG | NDB RWY 20.
AR | ROGERS MUNI-CARTER FIELD | ROG | VOR/DME RWY 20.
AR | STUTTGART MUNI | SGT | VOR/DME-A.
AR | BENTONVILLEMUNI/LOUISEMTHADENFIELD | VBT | VOR/DME-B.
AZ | CASA GRANDE MUNI | CGZ | VOR RWY 05.
AZ | CHANDLER MUNI | CHD | NDB RWY 4R.
AZ | BISBEE DOUGLAS INTL | DUG | VOR RWY 17.
AZ | GRAND CANYON NATIONAL PARK | GCN | VOR RWY 03.
AZ | YUMA MCAS/YUMA INTL | NYL | VOR/DME RNAV RWY 21R.
AZ | NOGALES INTL | OLS | VOR OR GPS-A.
AZ | NOGALES INTL | OLS | NDB OR GPS-C.
CA | ARCATA | ACV | VOR/DME RWY 01.
CA | ARCATA | ACV | VOR/DME RWY 14.
CA | NAPA COUNTY | APC | VOR RWY 06.
CA | CATALINA | AVX | VOR OR GPS-A.
CA | MEADOWS FIELD | BFL | VOR/DME RWY 30R.
CA | EASTERN SIERRA RGNL | BIH | VOR OR GPS-A.
CA | EASTERN SIERRA RGNL | BIH | VOR/DME OR GPS-B.
CA | BOB HOPE | BUR | VOR RWY 08.
CA | BRAWLEY MUNI | BWC | VOR/DME-A.
CA | BUCHANAN FIELD | CCR | VOR RWY 19R.
CA | JACK MC NAMARA FIELD | CEC | VOR RWY 11.
CA | JACK MC NAMARA FIELD | CEC | VOR/DME RWY 11.
CA | CHICO MUNI | CIC | VOR/DME RWY 13L.
CA | CHINO | CNO | VOR RWY 26R.
CA | MC CLELLAN-PALOMAR | CRQ | VOR-A.
CA | EL MONTE | EMT | VOR/DME OR GPS-B.
CA | FULLERTON MUNI | FUL | VOR-A.
CA | LONG BEACH/DAUGHERTY FIELD/ | LGB | VOR OR TACAN RWY 30.
CA | LOS BANOS MUNI | LSN | VOR/DME RWY 14.
CA | MC CLELLAN AIRFIELD | MCC | VOR/DME RWY 16.
CA | MERCED RGNL//MACREADY FIELD | MCE | VOR RWY 30.
CA | CASTLE | MER | VOR/DME RWY 31.
CA | SACRAMENTO MATHER | MHR | VOR/DME RWY 22L.
CA | MODESTO CITY-CO-HARRY SHAM FLD | MOD | VOR/DME RWY 28R.
CA | METROPOLITAN OAKLAND INTL | OAK | VOR RWY 10R.
CA | METROPOLITAN OAKLAND INTL | OAK | VOR/DME RWY 28L.
CA | ONTARIO INTL | ONT | VOR/DME RWY 08R.
CA | OXNARD | OXR | VOR RWY 25.
CA | BRACKETT FIELD | POC | VOR OR GPS-A.
CA | RIVERSIDE MUNI | RAL | VOR RWY 09.
CA | REDDING MUNI | RDD | VOR RWY 34.
CA | SACRAMENTO EXECUTIVE | SAC | VOR RWY 02.
CA | SAN BERNARDINO INTL | SBD | NDB RWY 6.
CA | SAN FRANCISCO INTL | SFO | VOR RWY 19L.
CA | SAN FRANCISCO INTL | SFO | VOR-B.
CA | NORMAN Y. MINETA SAN JOSE INTL | SJC | VOR RWY 12R.
CA | NORMAN Y. MINETA SAN JOSE INTL | SJC | VOR/DME RWY 30L.
CA | NORMAN Y. MINETA SAN JOSE INTL | SJC | VOR/DME RWY 30R.
CA | SANTA MARIA PUB/CAPT G ALLAN HANCOCK FLD | SMX | VOR RWY 12.
CA | CHARLES M. SCHULZ-SONOMA COUNTY | STS | VOR/DME RWY 32.
CA | LAKE TAHOE | TVL | VOR/DME OR GPS-A.
CA | VAN NUYS | VNY | VOR-A.
CA | WATSONVILLE MUNI | WVI | VOR/DME-A.
CO | DURANGO-LA PLATA COUNTY | DRO | VOR/DME RWY 03.
CO | MONTROSE RGNL | MTJ | VOR/DME RWY 13.
CO | TELLURIDE RGNL | TEX | VOR/DME-A.
CT | IGOR I SIKORSKYMEMORIAL | BDR | VOR RWY 06.
CT | IGOR I SIKORSKYMEMORIAL | BDR | VOR RWY 29.
CT | DANBURY MUNI | DXR | VOR OR GPS-A.
CT | HARTFORD-BRAINARD | HFD | VOR-A.
CT | TWEED-NEW HAVEN | HVN | VOR-A.
CT | TWEED-NEW HAVEN | HVN | VOR RWY 02.
DC | RONALD REAGAN WASHINGTON NATIONAL | DCA | VOR/DME OR GPS RWY 15.
DC | RONALD REAGAN WASHINGTON NATIONAL | DCA | VOR/DME OR GPS RWY 19.
DC | RONALD REAGAN WASHINGTON NATIONAL | DCA | VOR/DME RWY 01.
FL | APALACHICOLA RGNL-CLEVE RANDOLPH FIELD | AAF | NDB RWY 32.
FL | JACKSONVILLE EXECUTIVE AT CRAIG | CRG | VOR/DME RWY 32.
FL | DAYTONA BEACH INTL | DAB | VOR RWY 16.
FL | NORTH PALM BEACH COUNTY GENERAL AVIATION | F45 | VOR RWY 08R.
FL | FORT LAUDERDALE/HOLLYWOOD INTL | FLL | VOR RWY 28R.
FL | SAINT LUCIE COUNTY INTL | FPR | NDB-A.
FL | ORLANDO INTL | MCO | VOR/DME RWY 36L.
FL | ORLANDO INTL | MCO | VOR/DME RWY 36R.
FL | ST PETERSBURG-CLEARWATER INTL | PIE | VOR/DME RWY 18L.
FL | NORTHEAST FLORIDA RGNL | SGJ | VOR RWY 31.
FL | SARASOTA/BRADENTON INTL | SRQ | VOR RWY 32.
GA | SOUTHWEST GA. RGNL | ABY | NDB RWY 4.
GA | AUGUSTA RGNL AT BUSH FIELD | AGS | VOR/DME RWY 17.
GA | ATHENS/BEN EPPS | AHN | NDB RWY 27.
GA | WAYCROSS-WARE COUNTY | AYS | VOR-A.
GA | BRUNSWICK GOLDEN ISLES | BQK | VOR/DME-B.
GA | CRISP COUNTY-CORDELE | CKF | NDB RWY 10.
GA | DANIEL FIELD | DNL | NDB/DME-C.
GA | HEART OF GEORGIA RGNL | EZM | NDB RWY 2.
GA | HEART OF GEORGIA RGNL | EZM | VOR/DME-A.
GA | ATLANTA RGNL FALCON FIELD | FFC | NDB RWY 31.
GA | FULTON COUNTY AIRPORT-BROWN FIELD | FTY | NDB RWY 8.
GA | LEE GILMER MEMORIAL | GVL | NDB RWY 5.
GA | THOMSON-MCDUFFIE COUNTY | HQU | VOR/DME-A.
GA | THOMSON-MCDUFFIE COUNTY | HQU | NDB RWY 10.
GA | GWINNETT COUNTY-BRISCOE FIELD | LZU | NDB RWY 25.
GA | MACON DOWNTOWN | MAC | VOR/DME-B.
GA | DEKALB-PEACHTREE | PDK | VOR/DME RWY 21L.
GA | HARRIS COUNTY | PIM | NDB RWY 9.
GA | PERRY-HOUSTON COUNTY | PXE | VOR-A.
GA | EAST GEORGIA RGNL | SBO | NDB RWY 14.
GA | HENRY TIFT MYERS | TMA | VOR RWY 28.
GA | HENRY TIFT MYERS | TMA | VOR RWY 33.
GA | BARROW COUNTY | WDR | VOR/DME-A.
IA | WATERLOO RGNL | ALO | VOR RWY 36.
IA | WATERLOO RGNL | ALO | VOR/DME RWY 30.
IA | AMES MUNI | AMW | VOR RWY 31.
IA | COUNCIL BLUFFS MUNI | CBF | VOR-A.
IA | NORTHEAST IOWA RGNL | CCY | NDB RWY 12.
IA | THE EASTERN IOWA | CID | VOR RWY 27.
IA | THE EASTERN IOWA | CID | VOR/DME RWY 09.
IA | CLINTON MUNI | CWI | VOR RWY 03.
IA | DUBUQUE RGNL | DBQ | VOR RWY 13.
IA | DUBUQUE RGNL | DBQ | VOR RWY 31.
IA | DUBUQUE RGNL | DBQ | VOR RWY 36.
IA | DES MOINES INTL | DSM | VOR/DME RWY 23.
IA | KEOKUK MUNI | EOK | NDB RWY 14.
IA | KEOKUK MUNI | EOK | NDB RWY 26.
IA | FORT DODGE RGNL | FOD | VOR RWY 12.
IA | SIBLEY MUNI | ISB | NDB OR GPS RWY 17.
IA | MASON CITY MUNI | MCW | VOR RWY 36.
IA | MASON CITY MUNI | MCW | VOR/DME RWY 18.
IA | OTTUMWA RGNL | OTM | VOR RWY 31.
IA | SHENANDOAH MUNI | SDA | VOR/DME RWY 12.
IA | SPENCER MUNI | SPW | VOR/DME RWY 12.
IA | SPENCER MUNI | SPW | VOR/DME RWY 30.
IA | SIOUX GATEWAY/COL. BUD DAY FIELD | SUX | NDB RWY 13.
IA | SIOUX GATEWAY/COL. BUD DAY FIELD | SUX | NDB RWY 31.
IA | SIOUX GATEWAY/COL. BUD DAY FIELD | SUX | VOR OR TACAN RWY 31.
IA | NEWTON MUNI | TNU | VOR RWY 32.
ID | BOISE AIR TERMINAL/GOWEN FLD | BOI | VOR/DME OR TACAN RWY 10L.
ID | BOISE AIR TERMINAL/GOWEN FLD | BOI | VOR/DME RWY 10R.
ID | BURLEY MUNI | BYI | VOR/DME-B.
ID | COEUR D'ALENE-PAPPY BOYINGTON FIELD | COE | VOR RWY 06.
ID | IDAHO FALLS RGNL | IDA | NDB RWY 20.
ID | LEWISTON-NEZ PERCE COUNTY | LWS | VOR RWY 26.
ID | POCATELLO RGNL | PIH | VOR/DME RWY 21.
ID | JOSLIN FIELD-MAGIC VALLEY RGNL | TWF | VOR RWY 26.
ID | JOSLIN FIELD-MAGIC VALLEY RGNL | TWF | NDB RWY 26.
IL | LAKE IN THE HILLS | 3CK | VOR-A.
IL | ST LOUIS RGNL | ALN | VOR-A.
IL | AURORA MUNI | ARR | VOR RWY 33.
IL | AURORA MUNI | ARR | VOR RWY 15.
IL | AURORA MUNI | ARR | VOR RWY 36.
IL | FRASCA FIELD | C16 | VOR/DME OR GPS-B.
IL | UNIVERSITY OF ILLINOIS-WILLARD | CMI | VOR RWY 18.
IL | UNIVERSITY OF ILLINOIS-WILLARD | CMI | VOR/DME RWY 14L.
IL | VERMILION REGIONAL | DNV | VOR RWY 21.
IL | DUPAGE | DPA | VOR RWY 2L.
IL | DUPAGE | DPA | VOR RWY 10.
IL | ALBERTUS | FEP | VOR RWY 24.
IL | GALESBURG MUNI | GBG | VOR RWY 03.
IL | LANSING MUNI | IGQ | VOR-A.
IL | GREATER KANKAKEE | IKK | VOR RWY 22.
IL | GREATER KANKAKEE | IKK | VOR RWY 04.
IL | LEWIS UNIVERSITY | LOT | VOR RWY 09.
IL | LAWRENCEVILLE-VINCENNES INTL | LWV | VOR RWY 18.
IL | MOUNT VERNON | MVN | VOR RWY 23.
IL | WILLIAMSON COUNTY RGNL | MWA | VOR RWY 20.
IL | OLNEY-NOBLE | OLY | VOR/DME-A.
IL | GENERAL DOWNING-PEORIA INTL | PIA | VOR/DME OR TACAN RWY 31.
IL | CHICAGO EXECUTIVE | PWK | VOR RWY 16.
IL | ABRAHAM LINCOLN CAPITAL | SPI | VOR/DME RWY 22.
IL | ABRAHAM LINCOLN CAPITAL | SPI | VOR/DME RWY 31.
IL | ABRAHAM LINCOLN CAPITAL | SPI | VOR/DME RWY 04.
IL | QUINCY RGNL-BALDWIN FIELD | UIN | VOR RWY 04.
IL | QUINCY RGNL-BALDWIN FIELD | UIN | VOR/DME RWY 22.
IN | SKY KING | 3I3 | VOR-B.
IN | PUTNAM COUNTY | 4I7 | VOR/DME-A.
IN | KENTLAND MUNI | 50I | VOR/DME RNAV OR GPS RWY 27.
IN | ANDERSON MUNI-DARLINGTON FIELD | AID | NDB RWY 30.
IN | ANDERSON MUNI-DARLINGTON FIELD | AID | VOR-A.
IN | WARSAW MUNI | ASW | VOR RWY 27.
IN | WARSAW MUNI | ASW | VOR RWY 9.
IN | MONROE COUNTY | BMG | VOR/DME RWY 24.
IN | MONROE COUNTY | BMG | VOR/DME RWY 35.
IN | NAPPANEE MUNI | C03 | VOR/DME OR GPS-A.
IN | METTEL FIELD | CEV | VOR-A.
IN | ELKHART MUNI | EKM | VOR RWY 27.
IN | ELKHART MUNI | EKM | VOR/DME RWY 36.
IN | EVANSVILLE RGNL | EVV | NDB RWY 22.
IN | EAGLE CREEK AIRPARK | EYE | NDB RWY 21.
IN | FORT WAYNE INTL | FWA | VOR OR TACAN RWY 14.
IN | FORT WAYNE INTL | FWA | VOR OR TACAN RWY 05.
IN | GOSHEN MUNI | GSH | VOR RWY 27.
IN | DE KALB COUNTY | GWB | VOR OR GPS-A.
IN | DE KALB COUNTY | GWB | VOR RWY 09.
IN | GREENWOOD MUNI | HFY | NDB RWY 1.
IN | TERRE HAUTE INTL-HULMAN FIELD | HUF | VOR RWY 23.
IN | TERRE HAUTE INTL-HULMAN FIELD | HUF | VOR/DME RWY 05.
IN | CLARK RGNL | JVY | NDB RWY 18.
IN | PURDUE UNIVERSITY | LAF | VOR-A.
IN | DELAWARE COUNTY RGNL | MIE | VOR RWY 32.
IN | MARION MUNI | MZZ | VOR RWY 22.
IN | MARION MUNI | MZZ | VOR RWY 4.
IN | KOKOMO MUNI | OKK | VOR RWY 23.
IN | LA PORTE MUNI | PPO | VOR-A.
IN | RICHMOND MUNI | RID | VOR RWY 24.
IN | RICHMOND MUNI | RID | VOR RWY 33.
IN | INDIANAPOLIS EXECUTIVE | TYQ | VOR/DME RWY 36.
IN | NEW CASTLE-HENRY COUNTY MUNI | UWL | NDB RWY 27.
KS | COLONEL JAMES JABARA | AAO | VOR-A.
KS | DODGE CITY RGNL | DDC | VOR RWY 14.
KS | NEWTON-CITY-COUNTY | EWK | VOR/DME-A.
KS | GREAT BEND MUNI | GBD | NDB RWY 35.
KS | GREAT BEND MUNI | GBD | NDB-A.
KS | GARDEN CITY RGNL | GCK | VOR RWY 35.
KS | GARDEN CITY RGNL | GCK | NDB RWY 35.
KS | RENNER FLD/GOODLAND MUNI/ | GLD | VOR RWY 30.
KS | RENNER FLD/GOODLAND MUNI/ | GLD | VOR/DME RWY 30.
KS | HAYS RGNL | HYS | VOR RWY 34.
KS | HAYS RGNL | HYS | VOR/DME RWY 16.
KS | HAYS RGNL | HYS | VOR/DME RWY 34.
KS | WICHITA MID-CONTINENT | ICT | NDB RWY 1R.
KS | INDEPENDENCE MUNI | IDP | NDB RWY 35.
KS | INDEPENDENCE MUNI | IDP | VOR-A.
KS | LIBERAL MID-AMERICA RGNL | LBL | VOR RWY 35.
KS | LAWRENCE MUNI | LWC | VOR/DME-A.
KS | PHILIP BILLARD MUNI | TOP | VOR RWY 22.
KY | TAYLOR COUNTY | AAS | VOR/DME-A.
LA | BATON ROUGE METROPOLITAN-RYAN FIELD | BTR | NDB RWY 31.
LA | BATON ROUGE METROPOLITAN-RYAN FIELD | BTR | VOR RWY 04L.
LA | BATON ROUGE METROPOLITAN-RYAN FIELD | BTR | VOR/DME RWY 22R.
LA | GEORGE R CARR MEMORIAL AIR FLD | BXA | VOR/DME-A.
LA | SHREVEPORT DOWNTOWN | DTN | VOR RWY 14.
LA | HOUMA-TERREBONNE | HUM | VOR RWY 12.
LA | FALSE RIVER RGNL | HZR | NDB RWY 36.
LA | FALSE RIVER RGNL | HZR | VOR/DME-A.
LA | ABBEVILLE CHRIS CRUSTA MEMORIAL | IYA | VOR/DME-A.
LA | LAFAYETTE RGNL | LFT | VOR/DME RWY 11.
LA | HARRY P WILLIAMS MEMORIAL | PTN | VOR/DME-A.
LA | RUSTON RGNL | RSN | NDB RWY 36.
LA | RUSTON RGNL | RSN | VOR/DME-A.
MA | MINUTE MAN AIR FIELD | 6B6 | NDB-A.
MA | NORTHAMPTON | 7B2 | VOR-A.
MA | NANTUCKET MEMORIAL | ACK | NDB RWY 24.
MA | LAURENCE G. HANSCOM FIELD | BED | NDB RWY 29.
MA | GENERAL EDWARD LAWRENCE LOGAN INTL | BOS | VOR/DME RWY 27.
MA | GENERAL EDWARD LAWRENCE LOGAN INTL | BOS | VOR/DME RWY 33L.
MA | GENERAL EDWARD LAWRENCE LOGAN INTL | BOS | VOR/DME RWY 15R.
MA | BEVERLY MUNI | BVY | VOR RWY 16.
MA | FITCHBURG MUNI | FIT | NDB RWY 20.
MA | MARSHFIELD MUNI-GEORGE HARLOW FIELD | GHG | NDB RWY 6.
MA | LAWRENCE MUNI | LWM | NDB RWY 5.
MA | MARTHAS VINEYARD | MVY | VOR RWY 24.
MA | ORANGE MUNI | ORE | NDB RWY 32.
MA | ORANGE MUNI | ORE | NDB RWY 01.
MD | BALTIMORE/WASHINGTON INTL THURGOOD MARSHAL | BWI | VOR RWY 10.
MD | BALTIMORE/WASHINGTON INTL THURGOOD MARSHAL | BWI | VOR RWY 28.
MD | BALTIMORE/WASHINGTON INTL THURGOOD MARSHAL | BWI | VOR/DME RWY 15L.
MD | BALTIMORE/WASHINGTON INTL THURGOOD MARSHAL | BWI | VOR/DME RWY 33L.
MD | MONTGOMERY COUNTY AIRPARK | GAI | NDB RWY 14.
MD | HAGERSTOWN RGNL-RICHARD A HENSON FLD | HGR | VOR RWY 09.
MD | OCEAN CITY MUNI | OXB | VOR-A.
MD | SALISBURY-OCEAN CITY WICOMICO RGNL | SBY | VOR RWY 32.
MD | SALISBURY-OCEAN CITY WICOMICO RGNL | SBY | VOR RWY 23.
ME | LITTLEBROOK AIR PARK | 3B4 | NDB-B.
ME | AUGUSTA STATE | AUG | VOR/DME RWY 17.
ME | AUGUSTA STATE | AUG | VOR/DME RWY 08.
ME | AUGUSTA STATE | AUG | VOR/DME-A.
ME | BANGOR INTL | BGR | VOR/DME RWY 15.
ME | BANGOR INTL | BGR | VOR/DME RWY 33.
ME | DEWITT FLD, OLD TOWN MUNI | OLD | NDB RWY 22.
ME | NORTHERN MAINE RGNL ARPT AT PRESQUE ISLE | PQI | VOR/DME RWY 01.
ME | SANFORD SEACOAST RGNL | SFM | VOR RWY 07.
MI | ALPENA COUNTY RGNL | APN | NDB RWY 1.
MI | ALPENA COUNTY RGNL | APN | VOR RWY 01.
MI | KALAMAZOO/BATTLE CREEK INTL | AZO | NDB RWY 35.
MI | KALAMAZOO/BATTLE CREEK INTL | AZO | VOR RWY 17.
MI | KALAMAZOO/BATTLE CREEK INTL | AZO | VOR RWY 23.
MI | KALAMAZOO/BATTLE CREEK INTL | AZO | VOR RWY 35.
MI | KALAMAZOO/BATTLE CREEK INTL | AZO | VOR RWY 05.
MI | SOUTHWEST MICHIGAN RGNL | BEH | NDB RWY 28.
MI | TULIP CITY | BIV | VOR-A.
MI | W K KELLOGG | BTL | NDB RWY 23R.
MI | W K KELLOGG | BTL | VOR RWY 23R.
MI | CHIPPEWA COUNTY INTL | CIU | VOR-A.
MI | HOUGHTON COUNTY MEMORIAL | CMX | VOR RWY 13.
MI | HOUGHTON COUNTY MEMORIAL | CMX | VOR RWY 25.
MI | HOUGHTON COUNTY MEMORIAL | CMX | VOR RWY 31.
MI | COLEMAN A. YOUNG MUNI | DET | VOR RWY 33.
MI | COLEMAN A. YOUNG MUNI | DET | NDB RWY 15.
MI | DELTA COUNTY | ESC | VOR RWY 27.
MI | DELTA COUNTY | ESC | VOR RWY 36.
MI | DELTA COUNTY | ESC | VOR RWY 09.
MI | BISHOP INTL | FNT | VOR RWY 18.
MI | BISHOP INTL | FNT | VOR RWY 27.
MI | BISHOP INTL | FNT | VOR RWY 09.
MI | GAYLORD RGNL | GLR | NDB RWY 9.
MI | GAYLORD RGNL | GLR | VOR RWY 09.
MI | GERALD R. FORD INTL | GRR | VOR RWY 17.
MI | GERALD R. FORD INTL | GRR | VOR RWY 35.
MI | SAGINAW COUNTY H.W. BROWNE | HYX | VOR/DME-A.
MI | FORD | IMT | NDB RWY 1.
MI | FORD | IMT | VOR RWY 31.
MI | GOGEBIC-IRON COUNTY | IWD | VOR/DME RWY 27.
MI | JACKSON COUNTY-REYNOLDS FIELD | JXN | NDB RWY 24.
MI | JACKSON COUNTY-REYNOLDS FIELD | JXN | VOR/DME RWY 24.
MI | MANISTEE CO.-BLACKER | MBL | VOR RWY 28.
MI | MBS INTL | MBS | VOR RWY 23.
MI | MBS INTL | MBS | VOR RWY 32.
MI | MBS INTL | MBS | VOR RWY 05.
MI | MUSKEGON COUNTY | MKG | VOR-A.
MI | MENOMINEE-MARINETTE TWIN COUNTY | MNM | VOR-A.
MI | MENOMINEE-MARINETTE TWIN COUNTY | MNM | NDB RWY 3.
MI | LIVINGSTON COUNTY SPENCER J. HARDY | OZW | NDB RWY 13.
MI | ST CLAIR COUNTY INTL | PHN | NDB RWY 4.
MI | PELLSTON RGNL AIRPORT OF EMMET COUNTY | PLN | VOR RWY 23.
MI | PELLSTON RGNL AIRPORT OF EMMET COUNTY | PLN | VOR/DME RWY 05.
MI | OAKLAND COUNTY INTL | PTK | VOR RWY 09R.
MI | OAKLAND COUNTY INTL | PTK | VOR RWY 27L.
MI | SAWYER INTL | SAW | NDB RWY 1.
MI | SAWYER INTL | SAW | VOR RWY 01.
MI | CUSTER | TTF | VOR RWY 03.
MI | CHERRY CAPITAL | TVC | NDB RWY 28.
MI | WILLOW RUN | YIP | VOR-A.
MN | ANOKA COUNTY-BLAINE ARPT(JANES FIELD) | ANE | VOR/DME RWY 27.
MN | AUSTIN MUNI | AUM | VOR RWY 35.
MN | AUSTIN MUNI | AUM | VOR/DME-A.
MN | CHANDLER FIELD | AXN | VOR RWY 22.
MN | BAUDETTE INTL | BDE | VOR RWY 30.
MN | WILLMAR MUNI-JOHN L RICE FIELD | BDH | VOR RWY 13.
MN | BEMIDJI RGNL | BJI | VOR/DME RWY 31.
MN | BRAINERD LAKES RGNL | BRD | NDB RWY 23.
MN | FLYING CLOUD | FCM | VOR RWY 10R.
MN | FERGUS FALLS MUNI-EINAR MICKELSON FLD | FFM | NDB RWY 31.
MN | FERGUS FALLS MUNI-EINAR MICKELSON FLD | FFM | VOR RWY 35.
MN | FAIRMONT MUNI | FRM | VOR RWY 13.
MN | FAIRMONT MUNI | FRM | VOR RWY 31.
MN | FAIRMONT MUNI | FRM | VOR/DME RWY 31.
MN | GRAND RAPIDS/ITASCA CO-GORDON NEWSTROM FLD | GPZ | VOR RWY 34.
MN | RANGE RGNL | HIB | VOR RWY 13.
MN | RANGE RGNL | HIB | VOR RWY 31.
MN | FALLS INTL | INL | NDB RWY 31.
MN | FALLS INTL | INL | VOR RWY 13.
MN | FALLS INTL | INL | VOR/DME RWY 31.
MN | LITCHFIELD MUNI | LJF | VOR/DME RWY 13.
MN | MANKATO RGNL | MKT | VOR RWY 33.
MN | SOUTHWEST MINNESOTA RGNL MARSHALL/RYAN FLD | MML | VOR/DME RWY 30.
MN | WINONA MUNI-MAX CONRAD FLD | ONA | NDB RWY 30.
MN | WINONA MUNI-MAX CONRAD FLD | ONA | VOR-A.
MN | WORTHINGTON MUNI | OTG | NDB RWY 29.
MN | WORTHINGTON MUNI | OTG | VOR RWY 36.
MN | OWATONNA DEGNER RGNL | OWA | VOR/DME RWY 30.
MN | PARK RAPIDS MUNI-KONSHOK FIELD | PKD | NDB RWY 31.
MN | PARK RAPIDS MUNI-KONSHOK FIELD | PKD | VOR RWY 31.
MN | WARROAD INTL MEMORIAL | RRT | NDB RWY 31.
MN | SOUTH ST PAUL MUNI-RICHARD E. FLEMING FIELD | SGS | NDB-B.
MN | ST CLOUD RGNL | STC | VOR/DME RWY 13.
MN | THIEF RIVER FALLS RGNL | TVF | NDB RWY 31.
MN | THIEF RIVER FALLS RGNL | TVF | VOR RWY 13.
MN | THIEF RIVER FALLS RGNL | TVF | VOR RWY 31.
MN | THIEF RIVER FALLS RGNL | TVF | VOR/DME RWY 31.
MO | CAPE GIRARDEAU RGNL | CGI | VOR RWY 02.
MO | CAPE GIRARDEAU RGNL | CGI | VOR RWY 10.
MO | FARMINGTON RGNL | FAM | VOR/DME-A.
MO | KIRKSVILLE RGNL | IRK | VOR/DME-B.
MO | KIRKSVILLE RGNL | IRK | VOR-A.
MO | MACON-FOWER MEMORIAL | K89 | VOR/DME RWY 20.
MO | CHARLES B. WHEELER DOWNTOWN | MKC | NDB RWY 19.
MO | CHARLES B. WHEELER DOWNTOWN | MKC | VOR RWY 19.
MO | CHARLES B. WHEELER DOWNTOWN | MKC | VOR RWY 21.
MO | CHARLES B. WHEELER DOWNTOWN | MKC | VOR RWY 03.
MO | MEXICO MEMORIAL | MYJ | VOR/DME RWY 24.
MO | SIKESTON MEMORIAL MUNI | SIK | VOR/DME RWY 02.
MO | ROSECRANS MEMORIAL | STJ | VOR OR TACAN RWY 17.
MO | ROSECRANS MEMORIAL | STJ | VOR/DME OR TACAN RWY 35.
MO | SPIRIT OF ST LOUIS | SUS | NDB RWY 26L.
MO | SPIRIT OF ST LOUIS | SUS | NDB RWY 8R.
MS | GREENVILLE MID-DELTA | GLH | VOR/DME RWY 18L.
MS | GRENADA MUNI | GNF | NDB RWY 13.
MS | HARDY-ANDERS FIELD NATCHEZ-ADAMS COUNTY | HEZ | VOR/DME RWY 13.
MS | STENNIS INTL | HSA | NDB RWY 18.
MS | JOHN BELL WILLIAMS | JVW | NDB RWY 12.
MS | MCCHAREN FIELD | M83 | VOR-A.
MT | BILLINGS LOGAN INTL | BIL | VOR/DME RWY 28R.
MT | BERT MOONEY | BTM | VOR/DME OR GPS-A.
MT | BOZEMAN YELLOWSTONE INTL | BZN | VOR RWY 12.
MT | BOZEMAN YELLOWSTONE INTL | BZN | VOR/DME RWY 12.
MT | WOKAL FIELD/GLASGOW INTL | GGW | NDB RWY 30.
MT | GREAT FALLS INTL | GTF | NDB RWY 34.
MT | HELENA RGNL | HLN | VOR/DME-B.
MT | MISSION FIELD | LVM | VOR-A.
MT | FRANK WILEY FIELD | MLS | VOR/DME RWY 04.
MT | SIDNEY-RICHLAND MUNI | SDY | NDB RWY 1.
MT | YELLOWSTONE | WYS | NDB RWY 1.
NC | CLINTON-SAMPSON COUNTY | CTZ | VOR/DME-A.
NC | ELIZABETH CITY CG AIR STATION/RGNL | ECG | VOR/DME RWY 10.
NC | TARBORO-EDGECOMBE | ETC | NDB RWY 27.
NC | COASTAL CAROLINA REGIONAL | EWN | VOR RWY 04.
NC | PIEDMONT TRIAD INTL | GSO | VOR RWY 05R.
NC | WAYNE EXECUTIVE JETPORT | GWW | VOR-A.
NC | HICKORY RGNL | HKY | VOR/DME RWY 24.
NC | HENDERSON-OXFORD | HNZ | NDB RWY 6.
NC | HARNETT RGNL JETPORT | HRJ | VOR/DME RWY 05.
NC | LINCOLNTON-LINCOLN COUNTY RGNL | IPJ | NDB RWY 23.
NC | JOHNSTON COUNTY | JNX | NDB RWY 3.
NC | TRIANGLE NORTH EXECUTIVE | LHZ | VOR/DME-A.
NC | MICHAEL J. SMITH FIELD | MRH | NDB RWY 21.
NC | ALBERT J. ELLIS | OAJ | NDB RWY 5.
NC | WARREN FIELD | OCW | VOR/DME RWY 05.
ND | DEVILS LAKE RGNL | DVL | VOR RWY 21.
ND | DEVILS LAKE RGNL | DVL | VOR RWY 31.
ND | HECTOR INTL | FAR | VOR OR TACAN RWY 36.
ND | HECTOR INTL | FAR | VOR/DME OR TACAN RWY 18.
ND | GRAND FORKS INTL | GFK | VOR RWY 35L.
ND | SLOULIN FLD INTL | ISN | NDB RWY 29.
ND | SLOULIN FLD INTL | ISN | VOR/DME RWY 29.
ND | JAMESTOWN RGNL | JMS | NDB RWY 31.
ND | JAMESTOWN RGNL | JMS | VOR RWY 31.
ND | MINOT INTL | MOT | VOR RWY 13.
ND | MINOT INTL | MOT | VOR RWY 31.
NE | ALLIANCE MUNI | AIA | VOR RWY 30.
NE | BEATRICE MUNI | BIE | VOR RWY 14.
NE | CAMBRIDGE MUNI | CSB | NDB RWY 32.
NE | KEARNEY RGNL | EAR | NDB RWY 36.
NE | KEARNEY RGNL | EAR | VOR RWY 13.
NE | KEARNEY RGNL | EAR | VOR RWY 36.
NE | CENTRAL NEBRASKA RGNL | GRI | VOR/DME RWY 35.
NE | BREWSTER FIELD | HDE | VOR/DME-A.
NE | HASTINGS MUNI | HSI | VOR RWY 32.
NE | HASTINGS MUNI | HSI | VOR RWY 04.
NE | WAYNE MUNI/STAN MORRIS FLD | LCG | NDB RWY 23.
NE | WAYNE MUNI/STAN MORRIS FLD | LCG | NDB RWY 36.
NE | MC COOK BEN NELSON RGNL | MCK | VOR RWY 12.
NE | MC COOK BEN NELSON RGNL | MCK | VOR RWY 22.
NE | NORFOLK RGNL/KARL STEFAN MEMORIAL FLD | OFK | VOR RWY 01.
NE | NORFOLK RGNL/KARL STEFAN MEMORIAL FLD | OFK | VOR RWY 19.
NE | SEARLE FIELD | OGA | VOR RWY 26.
NE | SEARLE FIELD | OGA | VOR RWY 08.
NE | SEARLE FIELD | OGA | VOR/DME RWY 08.
NE | COLUMBUS MUNI | OLU | VOR/DME RWY 32.
NE | EPPLEY AIRFIELD | OMA | VOR/DME RWY 32L.
NE | SIDNEY MUNI/LLOYD W. CARR FIELD | SNY | VOR RWY 13.
NE | SIDNEY MUNI/LLOYD W. CARR FIELD | SNY | VOR RWY 31.
NH | BOIRE FIELD | ASH | NDB RWY 14.
NH | BOIRE FIELD | ASH | VOR-A.
NH | BERLIN RGNL | BML | VOR-B.
NH | SKYHAVEN | DAW | VOR/DME-A.
NH | DILLANT-HOPKINS | EEN | VOR RWY 02.
NH | LACONIA MUNI | LCI | NDB RWY 8.
NH | LEBANON MUNI | LEB | VOR RWY 25.
NH | MANCHESTER | MHT | VOR RWY 35.
NH | MANCHESTER | MHT | VOR/DME RWY 17.
NH | PORTSMOUTH INTL AT PEASE | PSM | VOR RWY 16.
NH | PORTSMOUTH INTL AT PEASE | PSM | VOR RWY 34.
NJ | NEWARK LIBERTY INTL | EWR | VOR RWY 11.
NJ | NEWARK LIBERTY INTL | EWR | VOR/DME RWY 22L.
NJ | NEWARK LIBERTY INTL | EWR | VOR/DME RWY 22R.
NJ | MILLVILLE MUNI | MIV | NDB RWY 14.
NJ | SOLBERG-HUNTERDON | N51 | VOR-A.
NJ | HAMMONTON MUNI | N81 | VOR-A.
NJ | TETERBORO | TEB | VOR RWY 24.
NJ | TETERBORO | TEB | VOR/DME RWY 06.
NJ | TETERBORO | TEB | VOR/DME-A.
NJ | TETERBORO | TEB | VOR/DME-B.
NJ | CAPE MAY COUNTY | WWD | VOR-A.
NM | ALAMOGORDO-WHITE SANDS RGNL | ALM | VOR/DME RWY 03.
NM | CAVERN CITY AIR TRML | CNM | VOR RWY 32L.
NM | FOUR CORNERS RGNL | FMN | VOR RWY 23.
NM | FOUR CORNERS RGNL | FMN | VOR RWY 25.
NM | LEA COUNTY RGNL | HOB | VOR OR TACAN RWY 03.
NM | LAS VEGAS MUNI | LVS | VOR RWY 02.
NM | GRANT COUNTY | SVC | VOR/DME-B.
NM | GRANT COUNTY | SVC | VOR-A.
NM | TUCUMCARI MUNI | TCC | VOR RWY 21.
NV | BATTLE MOUNTAIN | BAM | VOR-A.
NV | ELKO RGNL | EKO | VOR/DME-B.
NV | ELKO RGNL | EKO | VOR-A.
NV | ELY ARPT/YELLAND FLD/ | ELY | VOR-A.
NV | DERBY FIELD | LOL | VOR OR GPS-C.
NV | RENO/TAHOE INTL | RNO | VOR-D.
NY | WATERTOWN INTL | ART | VOR RWY 07.
NY | GREATER BINGHAMTON/EDWIN A LINK FIELD | BGM | VOR RWY 10.
NY | GREATER BINGHAMTON/EDWIN A LINK FIELD | BGM | VOR/DME RWY 28.
NY | CHAUTAUQUA COUNTY/DUNKIRK | DKK | VOR RWY 06.
NY | REPUBLIC | FRG | NDB RWY 1.
NY | GENESEE COUNTY | GVQ | VOR/DME-A.
NY | WESTCHESTER COUNTY | HPN | VOR/DME-A.
NY | BROOKHAVEN | HWV | VOR RWY 06.
NY | ITHACA TOMPKINS RGNL | ITH | VOR RWY 32.
NY | JOHN F KENNEDY INTL | JFK | VOR OR GPS RWY 13L/R.
NY | JOHN F KENNEDY INTL | JFK | VOR RWY 04L.
NY | CHAUTAUQUA COUNTY/JAMESTOWN | JHW | VOR RWY 25.
NY | LA GUARDIA | LGA | VOR/DME-G.
NY | LA GUARDIA | LGA | VOR/DME-H.
NY | LA GUARDIA | LGA | VOR-F.
NY | SULLIVAN COUNTY INTL | MSV | NDB RWY 15.
NY | DUTCHESS COUNTY | POU | VOR/DME RWY 06.
NY | GRIFFISS INTL | RME | VOR/DME RWY 33.
NY | GREATER ROCHESTER INTL | ROC | VOR/DME RWY 04.
NY | STEWART INTL | SWF | VOR RWY 27.
OH | ASHLAND COUNTY | 3G4 | VOR-A.
OH | JAMES M. COX DAYTON INTL | DAY | NDB RWY 6R.
OH | BELLEFONTAINE RGNL | EDJ | VOR/DME RWY 25.
OH | FOSTORIA METROPOLITAN | FZI | VOR-A.
OH | CLERMONT COUNTY | I69 | NDB RWY 22.
OH | AIRBORNE AIRPARK | ILN | NDB RWY 22R.
OH | AIRBORNE AIRPARK | ILN | NDB RWY 4L.
OH | AIRBORNE AIRPARK | ILN | VOR RWY 04L.
OH | AIRBORNE AIRPARK | ILN | VOR RWY 22R.
OH | AIRBORNE AIRPARK | ILN | VOR/DME RWY 22R.
OH | FAIRFIELD COUNTY | LHQ | VOR OR GPS-A.
OH | LORAIN COUNTY RGNL | LPR | VOR-A.
OH | CINCINNATI MUNI AIRPORT-LUNKEN FIELD | LUK | NDB RWY 21L.
OH | MARION MUNI | MNN | VOR-A.
OH | OHIO STATE UNIVERSITY | OSU | NDB RWY 9R.
OH | SPRINGFIELD-BECKLEY MUNI | SGH | VOR RWY 24.
OH | BOLTON FIELD | TZR | NDB RWY 4.
OH | OHIO UNIVERSITY SNYDER FIELD | UNI | NDB RWY 25.
OH | NEWARK-HEATH | VTA | NDB OR GPS RWY 9.
OH | NEWARK-HEATH | VTA | VOR-A.
OH | YOUNGSTOWN-WARREN RGNL | YNG | NDB RWY 32.
OH | YOUNGSTOWN-WARREN RGNL | YNG | VOR-A.
OH | ZANESVILLE MUNI | ZZV | VOR OR GPS RWY 22.
OK | ADA MUNI | ADH | VOR/DME-A.
OK | BARTLESVILLE MUNI | BVO | VOR RWY 17.
OK | DURANT RGNL-EAKER FIELD | DUA | VOR/DME RWY 17.
OK | CLAREMORE RGNL | GCM | VOR/DME-A.
OK | SUNDANCE AIRPARK | HSD | VOR RWY 17.
OK | UNIVERSITY OF OKLAHOMA WESTHEIMER | OUN | NDB RWY 35.
OK | UNIVERSITY OF OKLAHOMA WESTHEIMER | OUN | NDB RWY 3.
OK | RICHARD LLOYD JONES JR | RVS | VOR RWY 1L.
OK | RICHARD LLOYD JONES JR | RVS | VOR/DME-A.
OK | STILLWATER RGNL | SWO | NDB RWY 17.
OR | CORVALLIS MUNI | CVO | NDB RWY 17.
OR | SOUTHWEST OREGON RGNL | OTH | NDB RWY 4.
PA | SOMERSET COUNTY | 2G9 | NDB RWY 25.
PA | LANCASTER | LNS | VOR/DME RWY 08.
PA | CARLISLE | N94 | NDB-B.
SC | AIKEN MUNI | AIK | NDB RWY 25.
SC | AIKEN MUNI | AIK | VOR/DME-A.
SC | ANDERSON RGNL | AND | VOR RWY 05.
SC | DILLON COUNTY | DLC | NDB RWY 07.
SC | GREENVILLE DOWNTOWN | GMU | NDB RWY 1.
SC | GREENWOOD COUNTY | GRD | VOR RWY 27.
SC | HARTSVILLE RGNL | HVS | NDB RWY 3.
SC | MARION COUNTY | MAO | VOR/DME-A.
SC | SUMTER MUNI | SMS | NDB RWY 23.
SD | ABERDEEN RGNL | ABR | NDB RWY 31.
SD | ABERDEEN RGNL | ABR | VOR RWY 31.
SD | WATERTOWN RGNL | ATY | NDB RWY 35.
SD | WATERTOWN RGNL | ATY | VOR OR TACAN RWY 17.
SD | WATERTOWN RGNL | ATY | VOR/DME OR TACAN RWY 35.
SD | HURON RGNL | HON | VOR RWY 12.
SD | MITCHELL MUNI | MHE | VOR RWY 30.
SD | CHAN GURNEY MUNI | YKN | VOR RWY 31.
SD | CHAN GURNEY MUNI | YKN | NDB RWY 31.
TN | KNOXVILLE DOWNTOWN ISLAND | DKX | VOR/DME-B.
TN | DYERSBURG RGNL | DYR | VOR/DME RWY 04.
TN | FAYETTEVILLE MUNI | FYM | NDB RWY 20.
TN | MCMINN COUNTY | MMI | NDB RWY 20.
TN | MOORE-MURRELL | MOR | NDB RWY 5.
TN | UPPER CUMBERLAND RGNL | SRB | NDB RWY 4.
TN | TULLAHOMA RGNL/WM NORTHERN FIELD | THA | NDB RWY 18.
TX | BOWIE MUNI | 0F2 | NDB RWY 35.
TX | ABILENE RGNL | ABI | NDB RWY 35R.
TX | ALICE INTL | ALI | VOR-A.
TX | WHARTON RGNL | ARM | VOR/DME-A.
TX | JACK BROOKS RGNL | BPT | VOR RWY 12.
TX | JACK BROOKS RGNL | BPT | VOR/DME-D.
TX | JACK BROOKS RGNL | BPT | VOR-A.
TX | JACK BROOKS RGNL | BPT | VOR-B.
TX | JACK BROOKS RGNL | BPT | VOR-C.
TX | BROWNSVILLE/SOUTH PADRE ISLAND INTL | BRO | VOR/DME RNAV OR GPS RWY 35.
TX | BROWNWOOD RGNL | BWD | VOR RWY 17.
TX | BAY CITY MUNI | BYY | VOR/DME-A.
TX | C DAVID CAMPBELL FIELD-CORSICANA MUNI | CRS | VOR/DME-A.
TX | C DAVID CAMPBELL FIELD-CORSICANA MUNI | CRS | VOR/DME-B.
TX | DALLAS/FORT WORTH INTL | DFW | VOR RWY 13R.
TX | DALLAS/FORT WORTH INTL | DFW | VOR RWY 31L.
TX | DALHART MUNI | DHT | VOR RWY 17.
TX | DEL RIO INTL | DRT | NDB RWY 13.
TX | DEL RIO INTL | DRT | VOR/DME-B.
TX | DEL RIO INTL | DRT | VOR-A.
TX | DENTON MUNI | DTO | NDB RWY 18.
TX | KERRVILLE MUNI/LOUIS SCHREINER FIELD | ERV | NDB RWY 30.
TX | WICHITA VALLEY | F14 | VOR/DME-C.
TX | GRANBURY RGNL | GDJ | VOR/DME-A.
TX | EAST TEXAS RGNL | GGG | NDB RWY 13.
TX | ARLINGTON MUNI | GKY | VOR/DME RWY 34.
TX | SCHOLES INTL AT GALVESTON | GLS | VOR RWY 14.
TX | MAJORS | GVT | VOR/DME RWY 17.
TX | NORTH TEXAS RGNL/PERRIN FIELD | GYI | NDB RWY 17L.
TX | NORTH TEXAS RGNL/PERRIN FIELD | GYI | VOR/DME-A.
TX | WILLIAM P HOBBY | HOU | VOR/DME RWY 30L.
TX | WILLIAM P HOBBY | HOU | VOR/DME RWY 35.
TX | WILLIAM P HOBBY | HOU | VOR/DME RWY 04.
TX | WILLIAM P HOBBY | HOU | VOR/DME-E.
TX | VALLEY INTL | HRL | VOR/DME RWY 17R.
TX | VALLEY INTL | HRL | VOR/DME RWY 35L.
TX | SAN MARCOS MUNI | HYI | NDB RWY 13.
TX | SKYLARK FIELD | ILE | VOR-A.
TX | MIDLAND AIRPARK | MDD | VOR/DME RWY 25.
TX | MC ALLEN MILLER INTL | MFE | VOR RWY 13.
TX | MC ALLEN MILLER INTL | MFE | VOR RWY 31.
TX | ODESSA-SCHLEMEYER FIELD | ODO | NDB RWY 20.
TX | PORT ISABEL-CAMERON COUNTY | PIL | VOR-A.
TX | PALESTINE MUNI | PSN | VOR/DME RWY 18.
TX | DALLAS EXECUTIVE | RBD | VOR RWY 31.
TX | RUSK COUNTY | RFI | VOR/DME-A.
TX | SUGAR LAND RGNL | SGR | VOR/DME-A.
TX | SULPHUR SPRINGS MUNI | SLR | VOR-A.
TX | SHEPPARD AFB/WICHITA FALLS MUNI | SPS | NDB RWY 33L.
TX | SHEPPARD AFB/WICHITA FALLS MUNI | SPS | VOR-D.
TX | LA PORTE MUNI | T41 | NDB RWY 30.
TX | COLLIN COUNTY RGNL AT MC KINNEY | TKI | VOR/DME-A.
TX | DRAUGHON-MILLER CENTRAL TEXAS RGNL | TPL | VOR RWY 15.
TX | TYLER POUNDS RGNL | TYR | VOR/DME RWY 22.
TX | HUNTSVILLE MUNI | UTS | VOR/DME-A.
UT | DELTA MUNI | DTA | VOR RWY 35.
UT | WENDOVER | ENV | VOR/DME-B.
UT | CARBON COUNTY RGNL/BUCK DAVIS FIELD | PUC | VOR/DME RWY 01.
UT | SALT LAKE CITY INTL | SLC | VOR/DME RWY 34R.
UT | SALT LAKE CITY INTL | SLC | VOR/DME OR TACAN RWY 17.
UT | SALT LAKE CITY INTL | SLC | VOR/DME OR TACAN RWY 16L.
VA | VIRGINIA TECH/MONTGOMERY EXECUTIVE | BCB | NDB-A.
VA | CULPEPER RGNL | CJR | NDB RWY 4.
VA | DANVILLE RGNL | DAN | VOR RWY 02.
VA | LYNCHBURG RGNL/PRESTON GLENN FLD | LYH | VOR RWY 04.
VA | ACCOMACK COUNTY | MFV | VOR/DME RWY 03.
VA | HANOVER COUNTY MUNI | OFP | VOR RWY 16.
VA | NORFOLK INTL | ORF | VOR RWY 23.
VA | NORFOLK INTL | ORF | VOR/DME RWY 05.
VA | NEWPORT NEWS/WILLIAMSBURG INTL | PHF | NDB RWY 20.
VA | NEWPORT NEWS/WILLIAMSBURG INTL | PHF | NDB RWY 2.
VA | NEW RIVER VALLEY | PSK | VOR/DME RWY 06.
VA | NEW RIVER VALLEY | PSK | VOR-A.
VA | STAFFORD RGNL | RMN | VOR RWY 33.
VA | ROANOKE RGNL/WOODRUM FIELD | ROA | VOR/NDB RWY 34.
VA | SHENANDOAH VALLEY RGNL | SHD | NDB RWY 5.
VI | CYRIL E KING | STT | VOR-A.
VT | EDWARD F KNAPP STATE | MPV | VOR RWY 35.
VT | RUTLAND-SOUTHERN VERMONT RGNL | RUT | VOR/DME RWY 19.
WA | WALLA WALLA RGNL | ALW | NDB RWY 20.
WA | ARLINGTON MUNI | AWO | NDB RWY 34.
WA | BOWERS FIELD | ELN | VOR-B.
WA | SPOKANE INTL | GEG | VOR RWY 03.
WA | BOWERMAN | HQM | VOR/DME RWY 24.
WA | SNOHOMISH COUNTY (PAINE FLD) | PAE | VOR RWY 16R.
WA | SNOHOMISH COUNTY (PAINE FLD) | PAE | VOR/DME RWY 16R.
WA | RICHLAND | RLD | VOR/DME-A.
WA | FELTS FIELD | SFF | VOR RWY 04L.
WI | LAKELAND/NOBLE F. LEE MEM. FIELD | ARV | NDB RWY 28.
WI | OUTAGAMIE COUNTY RGNL | ATW | VOR/DME RWY 03.
WI | OUTAGAMIE COUNTY RGNL | ATW | VOR/DME RWY 21.
WI | BURLINGTON MUNI | BUU | VOR-A.
WI | MIDDLETON MUNI-MOREY FIELD | C29 | VOR RWY 10.
WI | CENTRAL WISCONSIN | CWA | VOR OR GPS-A.
WI | CENTRAL WISCONSIN | CWA | VOR/DME RWY 35.
WI | BARABOO WISCONSIN DELLS | DLL | VOR-A.
WI | CHIPPEWA VALLEY RGNL | EAU | VOR-A.
WI | CHIPPEWA VALLEY RGNL | EAU | NDB RWY 22.
WI | EAGLE RIVER UNION | EGV | VOR/DME RWY 04.
WI | KENOSHA RGNL | ENW | VOR RWY 15.
WI | AUSTIN STRAUBEL INTL | GRB | VOR/DME OR TACAN RWY 36.
WI | ALEXANDER FIELD SOUTH WOOD COUNTY | ISW | NDB RWY 30.
WI | ALEXANDER FIELD SOUTH WOOD COUNTY | ISW | VOR/DME or GPS-A.
WI | TRI-COUNTY RGNL | LNR | VOR-A.
WI | LA CROSSE MUNI | LSE | NDB RWY 18.
WI | MARSHFIELD MUNI | MFI | NDB RWY 5.
WI | DANE COUNTY RGNL-TRUAX FIELD | MSN | VOR/DME OR TACAN RWY 14.
WI | DANE COUNTY RGNL-TRUAX FIELD | MSN | VOR/DME OR TACAN RWY 18.
WI | DANE COUNTY RGNL-TRUAX FIELD | MSN | VOR/DME OR TACAN RWY 32.
WI | MANITOWOC COUNTY | MTW | VOR RWY 17.
WI | LAWRENCE J TIMMERMAN | MWC | VOR RWY 15L.
WI | JOHN H BATTEN | RAC | VOR RWY 04.
WI | RHINELANDER-ONEIDA COUNTY | RHI | VOR RWY 09.
WI | RICE LAKE RGNL-CARL'S FIELD | RPD | VOR RWY 01.
WI | WATERTOWN MUNI | RYV | NDB RWY 23.
WI | SHEBOYGAN COUNTY MEMORIAL | SBM | VOR RWY 22.
WI | STEVENS POINT MUNI | STE | VOR/DME RWY 21.
WI | WAUKESHA COUNTY | UES | VOR-A.
WI | DODGE COUNTY | UNU | NDB RWY 2.
WI | DODGE COUNTY | UNU | NDB RWY 20.
WV | ONA AIRPARK | 12V | VOR-A.
WV | FAIRMONT MUNI-FRANKMAN FIELD | 4G7 | VOR/DME-A.
WV | RALEIGH COUNTY MEMORIAL | BKW | VOR RWY 19.
WV | MERCER COUNTY | BLF | VOR RWY 23.
WV | GREENBRIER VALLEY | LWB | VOR RWY 04.
WY | CASPER/NATRONA COUNTY INTL | CPR | VOR/DME RWY 03.
WY | CHEYENNE RGNL/JERRY OLSON FIELD | CYS | NDB RWY 27.
WY | EVANSTON-UINTA COUNTY BURNS FIELD | EVW | VOR/DME RWY 23.
WY | GILLETTE-CAMPBELL COUNTY | GCC | VOR/DME RWY 34.
WY | JACKSON HOLE | JAC | VOR/DME RWY 19.
WY | RIVERTON RGNL | RIW | VOR RWY 28.
WY | ROCK SPRINGS-SWEETWATER COUNTY | RKS | VOR/DME RWY 27.
WY | TORRINGTON MUNI | TOR | NDB RWY 10

Conclusion

The FAA has determined that this proposed regulation only involves an established body of technical regulations for which frequent and routine amendments are necessary to keep them operationally current. It, therefore—(1) is not a “significant regulatory action” under Executive Order 12866; (2) is not a “significant rule” under DOT Regulatory Policies and Procedures (44 FR 11034; February 26, 1979) and (3) does not warrant preparation of a regulatory evaluation as the anticipated impact is so minimal. For the same reason, the FAA certifies that this amendment will not have a significant economic impact on a substantial number of small entities under the criteria of the Regulatory Flexibility Act.

Additional Information

A. Comments Invited

The FAA invites interested persons to participate in this rulemaking by submitting written comments, data, or views. To ensure the docket does not contain duplicate comments, commenters should send only one copy of written comments, or if comments are filed electronically, commenters should submit only one time.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The agency may change this proposal in light of the comments it receives.

Proprietary or Confidential Business Information: Commenters should not file proprietary or confidential business information in the docket. Such information must be sent or delivered directly to the person identified in the FOR FURTHER INFORMATION CONTACT section of this document, and marked as proprietary or confidential. If submitting information on a disk or CD ROM, mark the outside of the disk or CD ROM, and identify electronically within the disk or CD ROM the specific information that is proprietary or confidential.

Under 14 CFR 11.35(b), if the FAA is aware of proprietary information filed with a comment, the agency does not place it in the docket. It is held in a separate file to which the public does not have access, and the FAA places a note in the docket that it has received it. If the FAA receives a request to examine or copy this information, it treats it as any other request under the Freedom of Information Act (5 U.S.C. 552). The FAA processes such a request under Department of Transportation procedures found in 49 CFR part 7.

B. Availability of Rulemaking Documents

An electronic copy of rulemaking documents may be obtained from the Internet by—

1. Searching the Federal eRulemaking Portal (http://www.regulations.gov);

2. Visiting the FAA's Regulations and Policies Web page at http://www.faa.gov/regulations_policies or

3. Accessing the Government Printing Office's Web page at http://www.gpo.gov/fdsys/.

Copies may also be obtained by sending a request to the Federal Aviation Administration, Office of Rulemaking, ARM-1, 800 Independence Avenue SW., Washington, DC 20591, or by calling (202) 267-9677. Commenters must identify the docket or notice number of this rulemaking.

All documents the FAA considered in developing this proposed rule, including technical reports, may be accessed from the Internet through the Federal eRulemaking Portal referenced in item (1) above.

Issued under authority provided by 49 U.S.C. 106(f), 40103(b), and 44701(a)(5), in Washington, DC, on March 31, 2015.
Abigail Smith,
Director, Aeronautical Information Services.

[FR Doc. 2015-08098 Filed 4-10-15; 8:45 am]

BILLING CODE 4910-13-P